FEDERAL MARITIME COMMISSION

Notice of Agreement Filed

The Commission hereby gives notice of the filing of the following agreement under the Shipping Act of 1984. Interested parties may submit comments, relevant information, or documents regarding the agreement to the Secretary by email at Secretary@fmc.gov, or by mail, Federal Maritime Commission, 800 North Capitol Street, Washington, DC 20573. Comments will be most helpful to the Commission if received within 12 days of the date this notice appears in the Federal Register, and the Commission requests that comments be submitted within 7 days on agreements that request expedited review. A copy of the agreement is available through the Commission's website (www.fmc.gov) or by contacting the Office of Agreements at (202)-523-5793 or tradeanalysis@fmc.gov.

Agreement No.: 201436.

Title: MSC/Zim Cooperative Working Agreement.

Parties: Mediterranean Shipping Company S.A. and Zim Integrated Shipping Services Ltd.

Filing Party: Wayne Rohde; Cozen O'Connor; 2001 M Street NW, Suite 500; Washington, DC 20036.

Synopsis: The Agreement authorizes the Parties to operate jointly a string of vessels between Asia and the U.S. Atlantic and Gulf Coasts and to exchange space on five (5) other services operated individually by one Party or the other. The geographic scope of the Agreement is the trade between ports on the U.S. Atlantic and Gulf Coasts on the one hand and ports in Singapore, Thailand, China, Vietnam, South Korea, Panama, Colombia, Mexico, Jamaica and the Bahamas on the other hand. The Agreement would replace FMC Agreement No. 201263 when that agreement is terminated following the end of the Maersk/MSC Vessel Sharing Agreement (2M Alliance) in early 2025.

Proposed Effective Date: January 9, 2025.

Location: https://www2.fmc.gov/FMC.Agreements.Web/Public/AgreementHistory/86581.

Dated: November 29, 2024.
Alanna Beck,
Federal Register Alternate Liaison Officer.

[FR Doc. 2024-28381 Filed 12-3-24; 8:45 am]

BILLING CODE 6730-02-P